NATIONAL SCIENCE FOUNDATION

Advisory Committee for Computer and Information Science and Engineering; Notice of Meeting

In accordance with the Federal Advisory Committee Act (Pub. L. 92-463, as amended), the National Science Foundation (NSF) announces the following meeting:

Name: Advisory Committee for Computer and Information Science and Engineering (CISE) (1115).

Date/Time:

June 11, 2015: 12:20 p.m. to 5:30 p.m.

June 12, 2015: 8:25 a.m. to 12:15 p.m.

Place: National Science Foundation, 4201 Wilson Boulevard, Suite 1235, Arlington, Virginia 22203.

Type of Meeting: Open.

Contact Person: Carmen Whitson, National Science Foundation, 4201 Wilson Boulevard, Suite 1105, Arlington, Virginia 22203 703/292-8900.

Purpose of Meeting: To advise NSF on the impact of its policies, programs and activities on the CISE community. To provide advice to the Assistant Director for CISE on issues related to long-range planning, and to form ad hoc subcommittees and working groups to carry out needed studies and tasks.

Agenda:

• Overview and CISE Update

• Review of NSF Advanced Cyberinfrastructure major activities and Data Hubs

• Working group breakout sessions and report out: New partnership models for CISE research, Data Science

• Presentation and discussion on The Rising and Broadening Tide in CS Education

• Update on Envisioning CISE 2025

• Discussion with NSF Director, Dr. France Córdova

• Closing remarks and wrap-up

Dated: May 6, 2015.
Suzanne Plimpton,
Acting, Committee Management Officer.

[FR Doc. 2015-11479 Filed 5-12-15; 8:45 am]

BILLING CODE 7555-01-P